DEPARTMENT OF COMMERCE

National Oceanic and Atmospheric Administration

RIN 0648-XD239

Western Pacific Fishery Management Council; Public Meetings

AGENCY: National Marine Fisheries Service (NMFS), National Oceanic and Atmospheric Administration (NOAA) Commerce.

ACTION: Notice of public scoping meetings.

SUMMARY: The Western Pacific Fisheries Management Council (Council) will convene public informational scoping meetings in the Commonwealth of the Northern Mariana Islands (CNMI) to solicit comments on the management of the bottomfish fishery within the EEZ of the Mariana Islands. Scoping will, among other things, describe the existing federal management regime for bottomfish species, examine the current performance of the fishery and consider the need for potential regulatory changes that may include removal of the area closures to bottomfishing vessels over 40 feet in length around the southern islands and island of Alamagan.

DATES: Public informational scoping meetings will be held in CNMI on the island of Rota on April 28, 2014 and on Tinian on April 30, 2014. See SUPPLEMENTARY INFORMATION for specific dates, times, and locations.

ADDRESSES: Written comments on this issue may be sent to Kitty M. Simonds, Executive Director, Western Pacific Fishery Management Council, 1164 Bishop St., Suite 1400, Honolulu, HI 96813. Comments may be sent to the Council via facsimile (fax) at (808) 522-8226.

FOR FURTHER INFORMATION CONTACT: Kitty M. Simonds, Executive Director, WPFMC; telephone: (808) 522-8220.

SUPPLEMENTARY INFORMATION:

Dates, Times, and Locations for Public Informational Scoping Meetings

1. Rota, CNMI—Monday, April 28, 2014, from 6 p.m.-9 p.m. at the Sinapalo Youth Center, Sinapalo Village, Rota, MP 96951.

2. Tinian, CNMI—Wednesday, April 30, 2014, 6 p.m.-9 p.m., Tinian Elementary School Cafeteria, San Jose Village, Tinian, MP 96952.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 11, 2014.
Tracey L. Thompson,
Acting Deputy Director, Office of Sustainable Fisheries, National Marine Fisheries Service.

[FR Doc. 2014-08616 Filed 4-15-14; 8:45 am]

BILLING CODE 3510-22-P